DEPARTMENT OF ENERGY

Federal Energy Regulatory Commission

[Docket No. ER99-1983-001, et al.]

Geysers Power Company, LLC, et al.; Electric Rate and Corporate Regulation Filings

May 6, 2002.

The following filings have been made with the Commission. The filings are listed in ascending order within each docket classification.

1. Geysers Power Company, LLC

[Docket No. ER99-1983-001]

Take notice that on April 29, 2002, Geysers Power Company, LLC submitted for filing with the Federal Energy Regulatory Commission (Commission) its triennial market analysis update in compliance with the Commission order issued in this docket on April 28, 1999.

Comment Date: May 20, 2002.

2. Cordova Energy Company LLC

[Docket No. ER99-2156-001]

Take notice that on April 29, 2002, Cordova Energy Company LLC filed its updated market power analysis.

Comment Date: May 20, 2002.

3. PacifiCorp

[Docket No. ER01-1152-005]

Take notice that PacifiCorp on April 29, 2002, tendered for filing with the Federal Energy Regulatory Commission (Commission), in compliance with the Commission's Order dated April 10, 2002 under FERC Docket No. ER01-1152-000, copies of the Interconnection and Transmission Service Agreement (and amendments) between PacifiCorp and Western Area Power Administration. This filing is being made in compliance with the Order 614.

Copies of this filing were supplied to the Washington Utilities and Transportation Commission and the Public Utility Commission of Oregon.

Comment Date: May 20, 2002.

4. Armstrong Energy Limited Partnership, LLLP

[Docket No. ER02-1657-000]

Take notice that on April 29, 2002, Armstrong Energy Limited Partnership, LLLP (the Company) respectfully tendered for filing the following:

Service Agreement by Armstrong Energy Limited Partnership, LLLP to Dominion Energy Marketing, Inc., designated as Service Agreement No 1 under the Company's Market-Based Rate Tariff, FERC Electric Tariff, Original Volume No. 1, effective on December 1, 2001. The Company requests an effective date of April 10, 2002, as requested by the customer.

Copies of the filing were served upon the Dominion Energy Marketing, Inc., the Virginia State Corporation Commission, and the North Carolina Utilities Commission.

Comment Date: May 20, 2002.

5. Virginia Electric and Power Company

[Docket No. ER02-1658-000]

Take notice that on April 29, 2002, Virginia Electric and Power Company (Dominion Virginia Power or the Company) tendered for filing the following:

1. Service Agreement for Long Term Firm Point-to-Point Transmission Service by Virginia Electric and Power Company to The Wholesale Power Group of Virginia Electric and Power Company [OASIS #164117] designated as Service Agreement No. 363 under the Company's FERC Electric Tariff, Second Revised Volume No. 5;

2. Service Agreement for Long Term Firm Point-to-Point Transmission Service by Virginia Electric and Power Company to The Wholesale Power Group of Virginia Electric and Power Company [OASIS #164119] designated as Service Agreement No. 364 under the Company's FERC Electric Tariff, Second Revised Volume No. 5;

3. Service Agreement for Long Term Firm Point-to-Point Transmission Service by Virginia Electric and Power Company to The Wholesale Power Group of Virginia Electric and Power Company [OASIS 164368] designated as Service Agreement No. 365 under the Company's FERC Electric Tariff, Second Revised Volume No. 5.

The foregoing Service Agreements are tendered for filing under the Open Access Transmission Tariff to Eligible Purchasers effective June 7, 2000. Under the tendered Service Agreements, Dominion Virginia Power will provide long term firm point-to-point service to the Transmission Customer under the rates, terms and conditions of the Open Access Transmission Tariff. Dominion Virginia Power requests an effective date of January 1, 2004, the date requested by the customer.

Copies of the filing were served upon The Wholesale Power Group of Virginia Electric and Power Company, the Virginia State Corporation Commission, and the North Carolina Utilities Commission.

Comment Date: May 20, 2002.

6. Pinnacle West Capital Corporation

[Docket No. ER02-1659-000]

Take notice that on April 29, 2002, Pinnacle West Capital Corporation (PWCC”) tendered for filing a Service Agreement with Plumas Sierra Rural Electric Cooperative under PWCC's FERC Rate Schedule No. 1. PWCC has requested waiver of the Commission's Notice Requirements for effective dates as stated in the service agreements.

A copy of this filing has been served on Plumas Sierra Rural Electric Cooperative.

Comment Date: May 20, 2002.

7. Arizona Public Service Company

[Docket No. ER02-1660-000]

Take notice that on April 29, 2002, Arizona Public Service Company (APS) tendered for filing a Service Agreement to provide control area services to Ak Chin Electric Utility Authority (AkChin) under APS” Open Access Transmission Tariff.

A copy of this filing has been served on Ak Chin and the Arizona Corporation Commission.

Comment Date: May 20, 2002.

8. Duke Energy Morro Bay LLC

[Docket No. ER02-1661-000]

Take notice that on April 29, 2002, Duke Energy Morro Bay LLC (Duke Morro Bay) submitted for filing for informational purposes pursuant to Section 205 of the Federal Power Act and under its market-based rate tariff: (1) an amended service agreement pursuant to which it sells energy and ancillary services at wholesale to Duke Energy Trading and Marketing, L.L.C., and (2) a service agreement pursuant to which it sells energy at wholesale to Duke Energy Mulberry, LLC.

Comment Date: May 20, 2002.

9. Duke Energy Moss Landing LLC

[Docket No. ER02-1662-000]

Take notice that on April 29, 2002, Duke Energy Moss Landing LLC (Duke Moss Landing) submitted for filing for informational purposes pursuant to Section 205 of the Federal Power Act and under its market-based rate tariff: (1) an amended service agreement pursuant to which it sells energy and ancillary services at wholesale to Duke Energy Trading and Marketing, L.L.C., and (2) a service agreement pursuant to which it sells energy at wholesale to Duke Energy Mulberry, LLC.

Comment Date: May 20, 2002.

10. Tampa Electric Company

[Docket No. ER02-1663-000]

Take notice that on April 29, 2002, Tampa Electric Company (Tampa Electric) tendered for filing an unexecuted service agreement with Calpine Energy Services, LP (Calpine) for long-term firm point-to-point transmission service under Tampa Electric's open access transmission tariff.

Tampa Electric proposes an effective date of April 18, 2002, for the tendered service agreement, and therefore requests waiver of the Commission's notice requirement.

Copies of the filing have been served on Calpine and the Florida Public Service Commission.

Comment Date: May 20, 2002.

11. Cleco Power LLC

[Docket No. ER02-1664-000]

Take notice that on April 29, 2002 Cleco Power LLC (Cleco Power), tendered for filing a Notice of Cancellation pursuant to 18 CFR 35.15, effective April 30, 2002, canceling Cleco Utility Group, Inc.”s Rate Schedule 17 and all supplements thereto. Cleco Power is successor-in-interest to Cleco Utility Group, Inc. Cleco Power simultaneously filed substantially the same rate schedule as Cleco Power's Rate Schedule 14. Cleco Power Rate Schedule 14 has been amended to reflect that the parties recently entered into a Service Agreement for the Sale of Power and Energy Between Cleco Power LLC and The City of Natchitoches, Louisiana.

Comment Date: May 20, 2002.

12. Commonwealth Edison Company

[Docket No. ER02-1665-000]

Take notice that on April 29, 2002, Commonwealth Edison Company (ComEd) submitted for filing twenty-three Service Agreements for Firm Point to Point Transmission Service, fourteen with corresponding Network Upgrade Agreements, between ComEd and Alliant Energy (Alliant), Ameren Energy Marketing (Ameren), Dynegy Power Marketing, Inc. (Dynegy), Wisconsin Electric Power Marketing (Wisconsin Electric), and NRG Power Marketing, Inc. (NRG) under ComEd's FERC Electric Tariff, Second Revised Volume No. 5.

ComEd seeks an effective date of April 1, 2002 for each agreement and, accordingly, seeks waiver of the Commission's notice requirements. ComEd states that a copy of this filing has been served on Alliant, Ameren, Dynegy, Wisconsin Electric, NRG and the Illinois Commerce Commission.

Comment Date: May 20, 2002.

13. PSI Energy, Inc.

[Docket No. ER02-1666-000]

Take notice that on April 29, 2002, Cinergy Services, Inc. (Cinergy), as agent for PSI Energy, Inc., tendered for filing the Seventh Amendment to the Interconnection Agreement, dated May 1, 1992, between Indianapolis Power & Light Company and PSI Energy, Inc.

Cinergy states that it has served a copy of the filing upon the Indiana Utility Regulatory Commission and Indianapolis Power & Light Company.

Cinergy requests an effective date of May 1, 2002.

Comment Date: May 20, 2002.

14. Duke Energy Hinds, LLC

[Docket No. ER02-1667-000]

Take notice that on April 29, 2002, Duke Energy Hinds, LLC (Duke Hinds) submitted for filing for informational purposes pursuant to Section 205 of the Federal Power Act an executed service agreement under Duke Hinds' market-based rate tariff pursuant to which it sells power at wholesale to Duke Energy Trading and Marketing, L.L.C.

Comment Date: May 22, 2002.

15. Duke Energy Lee, LLC

[Docket No. ER02-1668-000]

Take notice that on April 29, 2002, Duke Energy Lee, LLC (Duke Lee) tendered for filing for informational purposes pursuant to Section 205 of the Federal Power Act an executed service agreement under Duke Lee's market-based rate tariff pursuant to which it sells power at wholesale to Duke Energy Trading and Marketing, L.L.C.

Comment Date: May 20, 2002.

16. PJM Interconnection, L.L.C.

[Docket No. ER02-1669-000]

Take notice that on April 29, 2002, PJM Interconnection, L.L.C. (PJM), tendered for filing the following executed agreement: an umbrella service agreement for network integration transmission service under state required retail access programs for Cook Inlet Power.

PJM requested a waiver of the Commission's notice regulations to permit effective date of April 1, 2002 for the agreement, the date that Cook Inlet Power became a member of PJM.

Copies of this filing were served upon Cook Inlet Power, as well as the state utility regulatory commissions within the PJM control area.

Comment Date: May 20, 2002.

17. Commonwealth Electric Company

[Docket No. ER02-1670-000]

Take notice that on April 30, 2002, Commonwealth Electric Company (Commonwealth) tendered for filing a firm point-to-point transmission service agreement between Commonwealth and Entergy Nuclear Generation Company (Entergy). Commonwealth states that the service agreement sets out the transmission arrangements under which Commonwealth will provide firm point-to-point transmission service to Entergy under Commonwealth's open access transmission tariff accepted for filing in Docket No. ER01-2291-001. Commonwealth requests that the service agreement become effective on July 1, 2002.

Comment Date: May 21, 2002.

18. Exelon Generation Company, LLC

[Docket No. ER02-1671-000]

Take notice that on April 30, 2002, Exelon Generation Company, LLC (Exelon Generation), submitted for filing a power sales service agreement between Exelon Generation and Electric Energy, Inc., under Exelon Generation's wholesale power sales tariff, FERC Electric Tariff Original Volume No. 2

Comment Date: May 21, 2002.

Standard Paragraph

E. Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-11808 Filed 5-10-02; 8:45 am]

BILLING CODE 6717-01-P